DEPARTMENT OF TRANSPORTATION

Federal Aviation Administration

14 CFR Part 73

[Docket No. FAA-2002-14163; Airspace Docket No. 02-AWP-11]

RIN 2120-AA66

Amendment to Using Agency for Restricted Area 2301E, Ajo East, AZ; Restricted Area 2304, Gila Bend, AZ; and Restricted Area 2305, Gila Bend, AZ

AGENCY: Federal Aviation Administration (FAA), DOT.

ACTION: Final rule.

SUMMARY: This action changes the using agency of restricted area 2301E (R-2301E), East Ajo AZ; R-2304, Gila Bend AZ; and R-2305, Gila Bend AZ, from “US Air Force, 58th Fighter Wing, Luke AFB, AZ,” to “U.S.A.F., 56th Fighter Wing, Luke AFB, AZ.” The FAA is taking this action in response to a request from the United States Air Force (USAF) to reflect an administrative change of responsibility for the restricted areas. There are no changes to the boundaries; designated altitudes; time of designation; or activities conducted within the affected restricted areas.

EFFECTIVE DATE: 0901 UTC, May 15, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

The Rule

This amendment to 14 Code of Federal Regulations (CFR) part 73 changes the using agency of R-2301E, East Ajo, AZ; R-2304, Gila Bend, AZ; and R-2305, Gila Bend, AZ. On November 8, 2002, the United States Air Force requested that the FAA change the using agency for R-2301E, R-2304, and R-2305, from “US Air Force, 58th Fighter Wing, Luke AFB, AZ,” to “US Air Force, 56th Fighter Wing, Luke AFB, AZ.” This action addresses that request. This is an administrative change and does not affect the boundaries; designated altitudes; or activities conducted within the restricted areas. Therefore, notice and public procedures under 5 U.S.C. 553(b) are unnecessary.

Section 73.48 of part 73 of the Federal Aviation Regulations was republished in FAA Order 7400.8K dated September 26, 2002.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.23 [Amended]

2. § 73.23 is amended as follows:

* * * * *

R-2301E [Amended]

By removing the words “Using agency. U.S. Air Force, 58th Fighter Wing, Luke AFB, AZ,” and inserting the words “Using agency. U.S. Air Force, 56th Fighter Wing, Luke AFB, AZ.”

* * * * *

R-2304 [Amended]

By removing the words “Using agency. U.S. Air Force, 58th Fighter Wing, Luke AFB, AZ,” and inserting the words “Using agency. U.S. Air Force, 56th Fighter Wing, Luke AFB, AZ.”

R-2305 [Amended]

By removing the words by removing the words “Using agency. U.S. Air Force, 58th Fighter Wing, Luke AFB, AZ,” and inserting the words “Using agency. U.S. Air Force, 56th Fighter Wing, Luke AFB, AZ.”

* * * * *

Issued in Washington, DC, on January 16, 2003.
Reginald C. Matthews,
Manager, Airspace and Rules Division.

[FR Doc. 03-1477 Filed 1-22-03; 8:45 am]

BILLING CODE 4910-13-P